DEPARTMENT OF VETERANS AFFAIRS

Advisory Committee: National Academic Affiliations Council, Notice of Meeting

The Department of Veterans Affairs (VA) gives notice under the Federal Advisory Committee Act that a meeting of the National Academic Affiliations Council (NAAC) will be held December 6, 2017—December 7, 2017 in Washington, DC The December 6, 2017 session will be held in the Sonny Montgomery Conference Center, Room 230, 810 Vermont Avenue NW., Washington, DC 20420. This session will begin at 8:30 a.m. and end at 4:30 p.m. The December 7, 2017 session will held in the Sonny Montgomery Conference Center, Room 230, 810 Vermont Avenue NW., Washington, DC 20420. This session will begin at 8:30 a.m. and adjourn by 2:15 p.m. The meetings are open to the public.

The purpose of the Council is to advise the Secretary on matters affecting partnerships between VA and its academic affiliates.

On December 6, 2017, the Council will review the status of its previous recommendations and receive a series of informational briefings on the budget, staffing, and functional alignment of the VA Office of Academic Affiliations. During the afternoon, the Council will explore several proposed physician recruitment initiatives to strengthen VA's clinical workforce pipeline, review efforts to minimize the adverse impact of several VA IT security policies on affiliate trainees; and receive a progress report on VA's newly launched Trainee Satisfaction Survey.

On December 7, 2017, the Council will receive presentations on VA's efforts to strengthen its academic affiliations between historically black colleges and universities and VA medical centers as well as the NAAC's Subcommittee on Diversity and Inclusion. The Members will also discuss the themes and outcomes of Secretary Shulkin's November 2017 address to the Association of American Medical Colleges and an update on plans to constitute an internal VA advisory committee on affiliation issues. During lunch, the Council will receive a series of short updates on areas of continuing interest: The revised waiver process for those VA employees with relationships with for-profit educational institutions and the Office of Personnel Management's proposed rule to limit the availability of administrative leave for Federal employees. The Council will receive public comments from 4:15 p.m. to 4:30 p.m. on December 6, 2017 and again at or before 2:00 p.m. to 2:15 p.m. on December 7, 2017.

Interested persons may attend and present oral statements to the Council. A sign-in sheet for those who want to give comments will be available at the meeting. Individuals who speak are invited to submit a 1-2 page summary of their comments at the time of the meeting for inclusion in the official meeting record. Oral presentations will be limited to five minutes or less, depending on the number of participants. Interested parties may also provide written comments for review by the Council prior to the meeting or at any time, via email to, Steve.Trynosky@va.gov, or by mail to Stephen K. Trynosky JD, MPH, MMAS, Designated Federal Officer, Office of Academic Affiliations (10A2D), 810 Vermont Avenue NW., Washington, DC 20420. Any member of the public wishing to attend or seeking additional information should contact Mr. Trynosky via email or by phone at (202) 461-6723. Because the meeting will be held in a Government building, anyone attending must be prepared to submit to security screening and present a valid photo I.D. Please allow at least 15 minutes prior to the meeting for this process.

Dated: November 14, 2017.
Jelessa M. Burney,
Federal Advisory Committee Management Officer.

[FR Doc. 2017-25009 Filed 11-16-17; 8:45 am]

BILLING CODE P